DEPARTMENT OF AGRICULTURE

Forest Service

California Coast Provincial Advisory Committee

AGENCY: Forest Service, USDA.

ACTION: Notice of meeting.

SUMMARY: The California Coast Provincial Advisory Committee (CCPAC) will meet on March 29-30, 2006, in Ukiah, California. The purpose of the meeting is to discuss issues relating to implementing the Northwest Forest Plan (NWFP).

DATES: The meeting will be held from 10 a.m. to 5 p.m. on March 29 and 8 a.m. to 1:45 p.m. on March 30, 2006.

ADDRESSES: The meeting will be held at the Discovery Inn (Landmark Conference Room), 1340 North State Street, Ukiah California.

FOR FURTHER INFORMATION CONTACT: Kathy Allen, Committee Coordinator, USDA, Six Rivers National Forest, 1330 Bayshore Way, Eureka, CA 95501; (707) 441-3557; kmallen@fs.fed.us.

SUPPLEMENTARY INFORMATION: On March 29, the meeting agenda items to be covered include: (1) Survey and Manage Update; (2) Aquatic Conservation Committee Update; (3) NWFP 10-year Monitoring Report; (4) Douglas Timber Operations Settlement Agreement—Implications on NWFP and Northern Province Forests; (5) 5-Year Planning Process and Stewardship Fireshed Assessment Process; (6) Regional Interagency Ecosystem Committee (RIEC) Meeting Update; (7) Update on Critical Habitat; and (8) Public comment.

On March 30, the meeting agenda items to be covered include: (1) Viewing of the Forest Service “Greatest Good” Video; (2) Agency Updates; and (3) Public comment.

The meeting is open to the public. Public input opportunity will be provided and individuals will have the opportunity to address the Committee at that time.

Dated: March 1, 2006.
William D. Metz,
Acting Designated Federal Official.

[FR Doc. 06-2243 Filed 3-8-06; 8:45am]

BILLING CODE 3410-11-M